DEPARTMENT OF AGRICULTURE

Submission for OMB Review; Comment Request

July 22, 2013.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by August 26, 2013 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Animal Disease Traceability Information Systems, Agreements, and Reports (formerly: National Animal Identification System).

OMB Control Number: 0579-0259.

Summary of Collection: The Animal and Plant Health Inspection Service (APHIS) has the authority to issue orders and promulgate regulations to prevent the introduction into the United States and the dissemination within the United States of any pest or disease of livestock. APHIS' regulations govern cooperative programs to control and eradicate communicable diseases of livestock. The regulations also establish requirements for the interstate movement of livestock to prevent the dissemination of diseases of livestock within the United States. Knowing where diseased and at-risk animals are, where they have been, and when, is indispensable in emergency response and in ongoing disease control and eradication programs. To provide a system that could provide for animal traceability, APHIS developed the Animal Disease Traceability (ADT) framework and ADT information systems. The basic data APHIS acquires through the ADT information systems will help APHIS obtain timely information on animal movement tracebacks and trace forwards when responding to an animal disease of concern.

Need and Use of the Information: APHIS' goal is to create an effective, consistent, and efficient system which will allow traces of animals to be completed in a timely manner, detection of disease, and ensure rapid containment of disease. The ADT information systems involve reporting and recordkeeping activities, including animal identification; premises registration; nonproducer participant registration; updates submitted by animal identification number manufacturers and managers; cooperative agreements; cooperative agreement applications; cooperator (State/Tribe) quarterly accomplishment reports; an identification number management system; and records associated with animal movement activities. Failing to collect the needed information would make it impossible for APHIS to conduct a timely traceback or trace forward of animals potentially exposed to disease.

Description of Respondents: Business or other for-profit; State, Local, or Tribal Government.

Number of Respondents: 60,315.

Frequency of Responses: Recordkeeping; Reporting: On occasion.

Total Burden Hours: 47,054.

Ruth Brown,
Departmental Information Collection Clearance Officer.

[FR Doc. 2013-17925 Filed 7-25-13; 8:45 am]

BILLING CODE 3410-34-P